DEPARTMENT OF AGRICULTURE

National Agricultural Statistics Service

Notice of Intent to Seek Approval To Conduct an Information Collection

AGENCY: National Agricultural Statistics Service, USDA.

ACTION: Notice and request for comments.

SUMMARY: In accordance with the Paperwork Reduction Act of 1995, this notice announces the intention of the National Agricultural Statistics Service (NASS) to seek approval to conduct a new information collection, the 2013 Residue and Biomass Field Survey.

DATES: Comments on this notice must be received by October 2, 2012 to be assured of consideration.

ADDRESSES: You may submit comments, identified by docket number 0535-NEW, 2013 Residue and Biomass Field Survey by any of the following methods:

• Email: ombofficer@nass.usda.gov. Include docket number and title above in the subject line of the message.

• Fax: (202) 720-6396

• Mail: Mail any paper, disk, or CD-ROM submissions to: David Hancock, NASS Clearance Officer, U.S. Department of Agriculture, Room 5336A, Mail Stop 2024, South Building, 1400 Independence Avenue SW., Washington, DC 20250-2024.

• Hand Delivery/Courier: Hand deliver to: David Hancock, NASS Clearance Officer, U.S. Department of Agriculture, Room 5336, South Building, 1400 Independence Avenue SW., Washington, DC 20250-2024.

FOR FURTHER INFORMATION CONTACT: Joseph T. Reilly, Associate Administrator, National Agricultural Statistics Service, U.S. Department of Agriculture, (202) 720-4333.

SUPPLEMENTARY INFORMATION:

Title: Residue and Biomass Field Survey.

OMB Control Number: 0535—NEW.

Type of Request: Intent to Seek Approval to Conduct a new Information Collection: The National Agricultural Statistics Service (NASS) of the United States Department of Agriculture (USDA) will request approval from the Office of Management and Budget (OMB) for the Residue and Biomass Field Survey.

The Residue and Biomass Field Survey will use as a sampling universe fields in the South Fork watershed in central Iowa (Buckeye, IA). This study will investigate the effect crop residue removal has on soil and water quality. With the respondent's permission, measurements of crop residues will be compared with remote sensed data to measure crop residue cover and soil tillage intensity for the entire watershed. The survey will be conducted in several phases. The farm operator will only be involved in part of the survey. With the farmers permission the field enumerators will return several times during the growing season to measure and collect samples from the target areas.

The primary objectives of the National Agricultural Statistics Service are to prepare and issue State and national estimates of crop production, livestock production, economic statistics, and environmental statistics related to agriculture and to conduct the Census of Agriculture and it's follow-on surveys. This project is conducted as a cooperative effort with USDA's Agricultural Research Service (ARS).

Authority: These data will be collected under the authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995 (Pub. L. 104-13) and Office of Management and Budget regulations at 5 CFR part 1320 (60 FR 44978, August 29, 1995).

NASS also complies with OMB Implementation Guidance, “Implementation Guidance for Title V of the E-Government Act, Confidential Information Protection and Statistical Efficiency Act of 2002 (CIPSEA),” Federal Register, Vol. 72, No. 115, June 15, 2007, p. 33376.

Estimate of Burden: Public reporting burden for this collection of information is estimated to average a total of 70 minutes per respondent for the complete survey cycle.

Respondents: Farmers, ranchers, and farm managers in the South Fork Watershed in Central Iowa.

Estimated Number of Respondents: 100.

Estimated Total Annual Burden on Respondents: 65 hours.

Copies of this information collection and related instructions can be obtained without charge from the NASS OMB Clearance Officer, at (202) 720-2248.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, through the use of appropriate automated, electronic, mechanical, technological or other forms of information technology collection methods.

All responses to this notice will become a matter of public record and be summarized in the request for OMB approval.

Signed at Washington, DC, July 25, 2012.
Joseph T. Reilly,
Associate Administrator.

[FR Doc. 2012-18952 Filed 8-2-12; 8:45 am]

BILLING CODE 3410-20-P